DEPARTMENT OF COMMERCE

International Trade Administration

[A-570-831]

Notice of Correction to the Extension of Time Limit for the Final Results of Antidumping New Shipper Review and the Final Results of Antidumping Administrative Review of the Antidumping Duty Order on Fresh Garlic from the People's Republic of China

AGENCY: Import Administration, International Trade Administration, Department of Commerce.

ACTION: Correction of extension of time limit for the final results of antidumping new shipper review and the final results of antidumping administrative review.

SUMMARY: The Department of Commerce published an extension of time limit for the final results of antidumping new shipper review and final results of antidumping administrative review on fresh garlic from the People's Republic from China (December 27, 2001, 66 FR 66872).

The new shipper review covers one exporter, Clipper Manufacturing Co. Ltd. The period of review is June 1, 2000, through November 30, 2000. The administrative review covers four manufacturers/exporters and the period November 1, 1999, through October 31, 2000. The extension notice incorrectly identified the date for issuance of the final results as February 2, 2002. The correct date for issuance is February 20, 2002.

EFFECTIVE DATE: January 30, 2002.

FOR FURTHER INFORMATION CONTACT: Hermes Pinilla or Edythe Artman, AD/CVD Enforcement 3, Import Administration, International Trade Administration, U.S. Department of Commerce, 14th Street and Constitution Avenue, N.W., Washington, D.C. 20230; telephone: (202) 482-3477 or (202) 482-3931, respectively.

This determination and notice are in accordance with section 751(a)(3)(A) of the Act.

January 24, 2002
Richard W. Moreland,
Deputy Assistant Secretary for AD/CVD Enforcement I.

[FR Doc. 02-2252 Filed 1-29-02; 8:45 am]

BILLING CODE 3510-DS-S